FARM CREDIT ADMINISTRATION

12 CFR Part 652

RIN 3052-AC51

Federal Agricultural Mortgage Corporation Funding and Fiscal Affairs; Risk-Based Capital Requirements

ACTION: Proposed rule; reopening of comment period.

SUMMARY: The Farm Credit Administration (FCA) Board reopens the comment period on the proposed rule that would revise risk-based capital requirements for the Federal Agricultural Mortgage Corporation (Farmer Mac or Corporation), so that interested parties will have additional time to provide comments.

DATES: Please send your comments to us on or before April 22, 2010.

ADDRESSES: We offer a variety of methods for you to submit comments on this proposed rule. For accuracy and efficiency reasons, commenters are encouraged to submit comments by e-mail or through the Agency's Web site. As facsimiles (fax) are difficult for us to process and achieve compliance with section 508 of the Rehabilitation Act, we are no longer accepting comments submitted by fax. Regardless of the method you use, please do not submit your comment multiple times via different methods. You may submit comments by any of the following methods:

• E-mail: Send us an e-mail at reg-comm@fca.gov.

• FCA Web site: http://www.fca.gov. Select “Public Commenters,” then “Public Comments,” and follow the directions for “Submitting a Comment.”

• Federal eRulemaking Portal: http://www.regulations.gov. Follow the instructions for submitting comments.

• Mail: Joseph T. Connor, Associate Director for Policy and Analysis, Office of Secondary Market Oversight, Farm Credit Administration, 1501 Farm Credit Drive, McLean, VA 22102-5090.

You may review copies of all comments we receive at our office in McLean, Virginia, or on our Web site at http://www.fca.gov. Once you are in the Web site, select “Public Commenters,” then “Public Comments,” and follow the directions for “Reading Submitted Public Comments.” We will show your comments as submitted, but for technical reasons we may omit items such as logos and special characters. Identifying information that you provide, such as phone numbers and addresses, will be publicly available. However, we will attempt to remove e-mail addresses to help reduce Internet spam.

FOR FURTHER INFORMATION CONTACT: Joseph T. Connor, Associate Director for Policy and Analysis, Office of Secondary Market Oversight, Farm Credit Administration, McLean, VA 22102-5090, (703) 883-4280, TTY (703) 883-4434; or Laura McFarland, Senior Counsel, Office of the General Counsel, Farm Credit Administration, McLean, VA 22102-5090, (703) 883-4020, TTY (703) 883-4020.

SUPPLEMENTARY INFORMATION: On January 22, 2010, FCA published a proposed rule in the Federal Register to amend regulations in part 652 that establish a risk-based capital stress test for the Corporation as required by section 8.32 of the Farm Credit Act of 1971, as amended (12 U.S.C. 2279bb-1). See 75 FR 3647, January 22, 2010. The comment period is scheduled to expire on March 8, 2010. Farmer Mac has requested us to provide more time for comments to be submitted and specifically asked for at least an additional 30 days. In response to this request, we are reopening the comment period for an additional 30 days. The FCA supports public involvement and participation in its regulatory process and invites all interested parties to review and provide comments on the proposed rule.

Dated: March 17, 2010.
Roland E. Smith,
Secretary, Farm Credit Administration Board.

[FR Doc. 2010-6292 Filed 3-22-10; 8:45 am]

BILLING CODE 6705-01-P